DEPARTMENT OF HEALTH AND HUMAN SERVICES

Centers for Disease Control and Prevention

[30Day-17-1083]

Agency Forms Undergoing Paperwork Reduction Act Review—Evaluation of the National Tobacco Prevention and Control Public Education Campaign; Correction

AGENCY: Centers for Disease Control and Prevention (CDC), Department of Health and Human Services (HHS).

ACTION: Notice; correction.

SUMMARY: The Centers for Disease Control and Prevention (CDC) published a document in the Federal Register of October 3, 2017, concerning request for comments on Agency Forms Undergoing Paperwork Reduction Act Review—Evaluation of the National Tobacco Prevention and Control Public Education Campaign. The document provided the incorrect proposed project type (Revision).

FOR FURTHER INFORMATION CONTACT: Leroy Richardson, 1600 Clifton Road, MS D-74, Atlanta, GA 30333; telephone (404) 639-4965; email: omb@cdc.gov.

Correction

In the Federal Register of October 3, 2017, in FR Doc. 2017-21122, on page 46059, in the first column (Proposed Project), correct the proposed project type to read:

Evaluation of the National Tobacco Prevention and Control Public Education Campaign (OMB Control Number 0920-1083, Expiration 09/30/2017)—Reinstatement with Change—National Center for Chronic Disease Prevention and Health Promotion (NCCDPHP), Centers for Disease Control and Prevention (CDC).

Dated: October 10, 2017.
Leroy A. Richardson,
Chief, Information Collection Review Office, Office of Scientific Integrity, Office of the Associate Director for Science, Office of the Director, Centers for Disease Control and Prevention.

[FR Doc. 2017-22256 Filed 10-13-17; 8:45 am]

BILLING CODE 4163-18-P